DEPARTMENT OF HOMELAND SECURITY

Coast Guard

33 CFR Part 165

[Docket No. USCG-2008-1096]

Safety Zones: Fireworks Displays in the Captain of the Port Portland Zone

AGENCY: Coast Guard, DHS.

ACTION: Notice of enforcement of regulation.

SUMMARY: The Coast Guard will enforce several safety zones for fireworks displays being held in the Captain of the Port Portland Zone this summer. The dates and times that the zones will be enforced are listed below. This action is necessary to help ensure the safety of the maritime public during the fireworks displays. During the enforcement period for each respective safety zone, no persons or vessels will be allowed to enter or remain in the zone unless authorized by the Captain of the Port or his designated representative.

DATES: The regulations in 33 CFR Section 165.1315 will be enforced from May 1, 2010 through September 30, 2010 as specifically noted in the SUPPLEMENTARY INFORMATION section below.

FOR FURTHER INFORMATION CONTACT: If you have questions on this notice, call or e-mail MST1 Jaime Sayers, Waterways Management Division, Coast Guard Sector Portland; telephone 503-240-9319, e-mail Jaime.A.Sayers@uscg.mil.

SUPPLEMENTARY INFORMATION: The Coast Guard will enforce the following safety zones codified in 33 CFR 165.1315 during the following dates and times:

(1) Portland Rose Festival Fireworks Display, Portland OR: May 28, 2010 from 8:30 p.m. until 10:30 p.m.

(2) Cedco Inc. Fireworks Display, North Bend, OR: July 3, 2010 from 9:45 p.m. through 10:50 p.m. If the event is delayed by inclement weather, the safety zone will also be enforced on July 4, 2010 from 9:45 p.m. through 10:50 p.m.

(3) Astoria 4th of July Fireworks, Astoria, OR: July 4, 2010 from 8:30 p.m. through 11:30 p.m.

(4) Oregon Food Bank Blues Festival Fireworks, Portland, OR: July 4, 2010 from 8:30 p.m. through 11:30 p.m.

(5) Florence Chamber 4th of July Fireworks Display, Florence, OR: July 4, 2010 from 9 p.m. through 11 p.m.

(6) Oaks Park July 4th Celebration, Portland, OR: July 4, 2010 from 9 p.m. 11 p.m.

(7) Rainier Days Fireworks Celebration, Rainier, OR: July 10, 2010 from 9 p.m. through 11 p.m.

(8) Milwaukie Centennial Fireworks Display, Milwaukie, OR: July 24, 2010 from 9 p.m. through 11 p.m.

(9) Splash Aberdeen Waterfront Festival, Aberdeen, WA: July 4, 2010 from 9 p.m. through 11 p.m.

(10) Arlington Chamber of Commerce Fireworks Display, Arlington, OR: July 4, 2010 from approximately 8:30 p.m. to approximately 11:30 p.m.

(11) East County 4th of July Fireworks, Gresham, OR: July 4, 2010 from approximately 8:30 p.m. to approximately 11:30 p.m.

(12) Port of Cascade Locks July 5th Fireworks Display, Cascade Locks, OR: July 4, 2010 from approximately 8:30 p.m. to approximately 11:30 p.m.

(13) Astoria Regatta Association Fireworks Display, Astoria, OR: August 14, 2010 9:30 p.m. through 11:30 p.m.

(14) City of Washougal July 4th Fireworks Display, Washougal, WA: July 4, 2010 at approximately 8:30 p.m. to approximately 11:30 p.m.

(15) Waverly Country Club 4th of July Fireworks Display, Milwaukie, OR: July 4, 2010 at approximately 8:30 p.m. to 11:30 p.m.

Under the provisions of 33 CFR 165.23, no person may enter or remain in these safety zones unless authorized by the Captain of the Port or his designated representative. Also in accordance with 33 CFR Section 165.23, no person may bring into, cause to be brought into, or allow to remain in these safety zones any vehicle, vessel, or object unless authorized by the Captain of the Port or his designated representative.

This notice is issued under authority of 33 CFR 165.1315 and 5 U.S.C. 552(a).

Dated: May 5, 2010.
F.G. Myer,
Captain, U.S. Coast Guard, Captain of the Port, Portland.

[FR Doc. 2010-14149 Filed 6-11-10; 8:45 am]

BILLING CODE 9110-04-P